DEPARTMENT OF LABOR

Employment and Training Administration

[TA-W-51,702]

Marion County Shirt Company, Capital Mercury Apparel, Springfield, Missouri; Amended Certification Regarding Eligibility to Apply for Worker Adjustment Assistance

In accordance with Section 223 of the Trade Act of 1974 (19 U.S.C. 2273) the Department of Labor issued a Notice of Certification Regarding Eligibility to Apply for Worker Adjustment Assistance on May 14, 2003, applicable to workers of Marion County Shirt Company located in Springfield, Missouri. The notice will soon be published in the Federal Register.

At the request of the State agency, the Department reviewed the certification for workers of the subject firm. The workers produce men's woven dress shirts. The Department inadvertently omitted the parent company's name, Capital Mercury Apparel, in the certification. Accordingly, the Department is amending the certification to properly identify the company name.

The amended notice applicable to TA-W-51,702 is hereby issued as follows:

All workers of Marion County Shirt Company, Capital Mercury Apparel, Springfield, Missouri, who became totally or partially separated from employment on or after May 5, 2002 through May 14, 2005, are eligible to apply for adjustment assistance under Section 223 of the Trade Act of 1974.

Signed at Washington, DC. this 27th day of May 2003.
Linda G. Poole,
Certifying Officer, Division of Trade Adjustment Assistance.

[FR Doc. 03-15870 Filed 6-23-03; 8:45 am]

BILLING CODE 4510-30-P